DEPARTMENT OF LABOR

Office of Labor-Management Standards

29 CFR Part 404

RIN 1215-AB49

Labor Organization Officer and Employee Report, Form LM-30

AGENCY: Office of Labor-Management Standards, Employment Standards Administration, Department of Labor.

ACTION: Final rule; correction.

SUMMARY: The Employment Standards Administration's Office of Labor-Management Standards (“OLMS”) of the Department of Labor is correcting a final rule that appeared in the Federal Register of July 2, 2007, (72 FR 36106). That document revised the Form LM-30, Labor Organization Officer and Employee Report, its instructions, and related provisions in the Department's regulations. In that document, the effective date of the final rule (August 16, 2007) was omitted from one paragraph in the preamble and the beginning date for the mandatory submission of Form LM-30 reports filed under the final rule (November 16, 2008) was inadvertently omitted from the same paragraph. This document corrects those omissions.

EFFECTIVE DATE: Effective on August 16, 2007.

FOR FURTHER INFORMATION CONTACT: Kay H. Oshel, Director, Office of Policy, Reports, and Disclosure, Office of Labor-Management Standards, U.S. Department of Labor, 200 Constitution Avenue NW., Room N-5609, Washington, DC 20210, olms-public@dol.gov, (202) 693-1233 (this is not a toll-free number). Individuals with hearing impairments may call 1-800-877-8339 (TTY/TDD).

SUPPLEMENTARY INFORMATION:

Background

The final rule that is the subject of this correction appeared in the Federal Register of July 2, 2007, (72 FR 36106); the final rule revised the Form LM-30, Labor Organization Officer and Employee Report, its instructions, and related provisions in the Department's regulations. The rule implemented section 202 of the Labor-Management Reporting and Disclosure Act of 1959, 29 U.S. 432, whose purpose is to require officers and employees of labor organizations to report specified financial transactions and holdings to effect public disclosure of any possible conflicts of interest with their duty to the labor organization and its members. A paragraph in the preamble to the final rule, at 72 FR 36113, left blank the effective date of the rule and the beginning date for the mandatory submission of Form LM-30 reports filed under the rule. This correction remedies this inadvertent omission by inserting the appropriate dates.

Need for Correction

As published, the final rule omits the pertinent dates from the paragraph, at 72 FR 36113 (col. 3), that describes the prospective effect of the final rule.

Correction

Accordingly, the preamble to the final rule (FR Doc. 07-3155), is corrected as follows:

Section II, Subsection A [Corrected]

On page 36113, in the third column, the last paragraph of Section II, subsection A, is corrected to read:

DOL is applying these changes prospectively only. This final rule will apply to fiscal years beginning on or after August 16, 2007. Therefore, no report subject to today's rule will be due until at least November 16, 2008. There is ample time from publication of this final rule until November 16, 2008 for all filers to obtain any information they need to comply with the filing requirements.

Signed at Washington, DC this 9th day of July, 2007.
Dixon M. Wilson,
Deputy Assistant Secretary for Employment Standards.

[FR Doc. E7-13534 Filed 7-12-07; 8:45 am]

BILLING CODE 4510-CP-P